DEPARTMENT OF DEFENSE

Department of the Army, Corps of Engineers

Withdrawal of Notice of Intent To Prepare a Draft Environmental Impact Statement for the Whitney Point Lake Project Modification, Susquehanna River Basin Water Management Feasibility Study, Broome County, NY

AGENCY: U.S. Army Corps of Engineers, DoD.

ACTION: Notice of withdrawal.

SUMMARY: The U.S. Army Corps of Engineers, Baltimore District, is withdrawing its intent to prepare a Draft Environmental Impact Statement (DEIS) for modification of the Whitney Point Lake, Broome County, New York. The Corps' environmental analyses have not identified any significant adverse impacts associated with the proposed action; therefore, intent to prepare a DEIS is hereby terminated. The Corps is preparing an Environmental Assessment (EA) for the proposed project modification. The draft EA evaluates the elimination of the 7-foot annual winter drawdown and the release of water from the lake for low flow augmentation (drought conditions) for the enhancement of acquatic habitat downstream of the lake, in the Otselic, Tioughnioga, and Chenango River reaches. The Susquehanna River Basin Commission is the non-Federal, cost-sharing partner and is participating in the feasibility study and draft EA development. The goal of this project is to provide for low flow augmentation during drought conditions and reduce the stress upon the aquatic ecosystem. Formulation of the restoration measures focus on examining existing conditions, maximizing potential benefits to the in-lake and downstream aquatic resources, and minimizing impacts to in-lake resources and recreational facilities due to lake drawdowns resulting from low flow augmentation releases. The draft feasibility report and integrated EA is scheduled to be released for a 30-day public review and comment period in October 2000.

FOR FURTHER INFORMATION CONTACT: Questions about the termination of the DEIS can be addressed to Ms. Maria E. de la Torre, Study Manager, Baltimore District, U.S. Army Corps of Engineers, ATTN: CENAB-PL-P, P.O. Box 1715, Baltimore, Maryland 21203-1715. E-mail address: maria.e.delatorre@usace.army.mil.

SUPPLEMENTARY INFORMATION: None.

Gregory D. Showalter,
Army Federal Register Liaison Officer.

[FR Doc. 00-25658 Filed 10-5-00; 8:45 am]

BILLING CODE 3710-41-M